ENVIRONMENTAL PROTECTION AGENCY

[FRL-8229-2]

Good Neighbor Environmental Board

AGENCY: Environmental Protection Agency (EPA).

ACTION: Notice of meeting.

SUMMARY: Under the Federal Advisory Committee Act, P.L. 92463, EPA gives notice of a meeting of the Good Neighbor Environmental Board. The Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The purpose of the meeting is to hear presentations from local experts on the meeting theme: “Big Bend/El Gran Recodo; “ hold a public comment session; and invite public input on the text of the Board's next report to the President and Congress. A copy of the meeting agenda is posted at http://www.epa.gov/ocem/gneb. For a copy of the draft report, contact Designated Federal Officer Elaine Koerner at the address below.

DATES: The Good Neighbor Environmental Board will hold its next meeting on Tuesday, October 24th, 2006, from 8:30 a.m. to 5:30 p.m. In addition, on Thursday, October 26th, 2006, the Board will hold a routine public business meeting from 8 a.m. to 12 noon. (On Wednesday, October 25th, the Board will go on an all-day site visit to Big Bend National Park.)

ADDRESSES: The meeting will be held at Sul Ross State University Espino Conference Center, 2nd Floor, University Center, East Hwy 90, Alpine, Texas 79832. Telephone: 1-432-837-8191. The meeting is open to the public, with limited seating on a first-come, first-served basis.

FOR FURTHER INFORMATION CONTACT: Elaine Koerner, Designated Federal Officer, koerner.elaine@epa.gov, 202-233-0069, U.S. EPA, Office of Cooperative Environmental Management (1601E), 1200 Pennsylvania Avenue, NW., Washington, DC 20460.

SUPPLEMENTARY INFORMATION: Requests to make brief oral comments or provide written statements to the Board should be sent to Elaine Koerner, Designated Federal Officer, at the contact information above.

Meeting Access: For information on access or services for individuals with disabilities, please contact Elaine Koerner at 202-233-0069 or koerner.elaine@epa.gov. To request accommodation of a disability, please contact Elaine Koerner, preferably at least 10 days prior to the meeting, to give EPA as much time as possible to process your request.

Dated: September 22, 2006.
Elaine Koerner,
Designated Federal Officer.

[FR Doc. E6-16650 Filed 10-6-06; 8:45 am]

BILLING CODE 6560-50-P